DEPARTMENT OF COMMERCE

National Oceanic and Atmospheric Administration

[I.D. 011106E]

New England Fishery Management Council; Public Meeting

AGENCY: National Marine Fisheries Service (NMFS), National Oceanic and Atmospheric Administration (NOAA), Commerce.

ACTION: Notice of public meeting.

SUMMARY: The New England Fishery Management Council (Council) will hold a 3-day Council meeting on January 31, and February 1 and 2, 2006, to consider actions affecting New England fisheries in the exclusive economic zone (EEZ).

DATES: The meeting will be held on Tuesday, January 31, 2006, through Thursday, February 2, 2006, beginning at 9 a.m. on Tuesday and 8:30 a.m. on Wednesday and Thursday.

ADDRESSES: The meeting will be held at the Holiday Inn by the Bay,88 Spring Street, Portland, ME; telephone: (207) 775-2311.

FOR FURTHER INFORMATION CONTACT: Paul J. Howard, Executive Director, New England Fishery Management Council, telephone: (978) 465-0492.

SUPPLEMENTARY INFORMATION:

Tuesday, January 31, 2006

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission and the Joint New England and Mid-Atlantic Council Trawl Survey Committee. During the morning session, the Council will review the Habitat Committee's work on development of essential fish habitat (EFH) designation alternatives and alternatives for Habitat Areas of Particular Concern, both under consideration for inclusion in the New England Fishery Management Council's (NEFMC) Omnibus EFH Amendment 2. Following a lunch break, there will be an open public comment period to address items not listed on the agenda. A public hearing is then scheduled to receive comments on the revised proposed action (with additional analyses) under consideration for Amendment 1 to the Atlantic Herring Fishery Management Plan (FMP). This will be followed by a Council vote to approve the final Herring FMP management measures and completion of the Final Environmental Impact Statement.

Wednesday, February 1, 2006

During the morning session of the meeting the Magnuson-Stevens Act Committee will provide recommendations for Council approval concerning NEFMC positions on a bill currently before Congress. This will be followed by a Stock Assessment Public Review Workshop during which the status of whiting, mackerel, and Illex squid will be reviewed along details of the multispecies virtual population analysis used. The remainder the day will be spent on groundfish-related issues. The Council intends to approve final action on Framework Adjustment 42 to the Northeast Multispecies FMP. Measures may include changes to days-at-sea (DAS) allocations or use, possession limits and gear requirements for commercial vessels. They may also address recreational fishing measures, extension of the DAS leasing and transfer programs and Special Access Programs, and possible renewal of the Category B (regular) DAS Program. Framework Adjustment 3 to the Monkfish FMP also will be discussed and possibly approved under the groundfish agenda item, given that it may be incorporated into Framework 42. If approved, measures would prohibit both limited access multispecies and monkfish permit holders from using a multispecies B regular DAS when fishing on a monkfish DAS. A third subject to be addressed during discussions on groundfish involves consideration of a control date for party/charter boats in the Northeast. If approved, vessels participating in the fishery after the control date may be treated differently than those in the fishery prior to implementation of the control date.

Thursday, February 2, 2006

The Council will receive a report on the Ecosystems Pilot Project stakeholder workshops, a presentation on coastal pollution and marine fisheries productivity, and recommendations from the Council's Scientific and Statistical Committee and Social Sciences Advisory Committee about future directions concerning the incorporation of ecosystems principles into fisheries management programs. The Research Steering Committee will report on its review of completed research projects and research priorities for 2006. During the final agenda item the Scallop Committee will ask the Council for approval of a scoping document for Amendment 11 to the Scallop FMP. The intent of the action contemplated is to provide more effective management for the general category scallop fishery and to change the scallop fishing year. Future scallop management actions and their timelines also will be discussed. The Council also will consider and may approve a recommendation from the Capacity Committee to allow permit stacking for limited access scallop vessels.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 12, 2006.
Emily Menashes,
Acting Director, Office of Sustainable Fisheries, National Marine Fisheries Service.

[FR Doc. E6-455 Filed 1-17-06; 8:45 am]

BILLING CODE 3510-22-S